DEPARTMENT OF COMMERCE

National Oceanic and Atmospheric Administration

RIN 0648-XF494

Marine Fisheries Advisory Committee

AGENCY: National Marine Fisheries Service (NMFS), National Oceanic and Atmospheric Administration (NOAA), Commerce.

ACTION: Notice of open public meetings.

SUMMARY: This notice sets forth the schedule and proposed agenda of a forthcoming meeting of the Marine Fisheries Advisory Committee (MAFAC). The members will discuss and provide advice on improving resilience of coastal fishing communities.

DATES: The meeting is scheduled for August 9, 2017, 2-5 p.m., Eastern Daylight Time.

ADDRESSES: Public access is available at 1315 East-West Highway, Silver Spring, MD 20910.

FOR FURTHER INFORMATION CONTACT: Any member of the public wishing to participate may contact Heidi Lovett, (301) 427-8034; email: heidi.lovett@noaa.gov.

SUPPLEMENTARY INFORMATION: The MAFAC was established by the Secretary of Commerce (Secretary), and, since 1971, advises the Secretary on all living marine resource matters that are the responsibility of the Department of Commerce. The charter and other information are located online at http://www.nmfs.noaa.gov/ocs/mafac/.

Matters To Be Considered

The Committee is convening to discuss and finalize their recommendations on improving resilience of coastal fishing communities. Other administrative matters may be considered. This date, time, and agenda are subject to change.

Time and Date

The meeting is scheduled for August 9, 2017, 2-5 p.m., Eastern Daylight Time by conference call. Conference call information for the public will be posted at http://www.nmfs.noaa.gov/ocs/mafac/ by July 26, 2017.

Special Accommodations

These meetings are physically accessible to people with disabilities. Requests for sign language interpretation or other auxiliary aids should be directed to Heidi Lovett, 301-427-8034 by July 26, 2017.

Dated: July 7, 2017.
Jennifer Lukens,
Director for the Office of Policy, National Marine Fisheries Service.

[FR Doc. 2017-14797 Filed 7-13-17; 8:45 am]

BILLING CODE 3510-22-P